DEPARTMENT OF COMMERCE

International Trade Administration

[A-570-866]

Certain Folding Gift Boxes From the People's Republic of China: Final Results of Expedited Third Sunset Review and Continuation of the Antidumping Duty Order

AGENCY: Enforcement and Compliance, International Trade Administration, Department of Commerce.

SUMMARY: The Department of Commerce (Commerce) finds that revocation of the antidumping duty (AD) order on certain folding gift boxes from the People's Republic of China (China) would likely lead to continuation or recurrence of dumping at the dumping margins identified in the “Final Results of Review” section of this notice.

DATES: Applicable June 7, 2018.

FOR FURTHER INFORMATION CONTACT: Keith Haynes, AD/CVD Operations, Office III, Enforcement and Compliance, International Trade Administration, U.S. Department of Commerce, 1401 Constitution Avenue NW, Washington, DC 20230; telephone: (202) 482-5139.

SUPPLEMENTARY INFORMATION:

Background

On February 1, 2018, Commerce published the notice of initiation of the third sunset review of the antidumping duty order ¹ on certain folding gift boxes from China, pursuant to section 751(c) of the Tariff Act of 1930, as amended (the Act).² On February 16, 2018, Commerce received a notice of intent to participate from Harvard Folding Box Company, Inc. (Harvard) and P.S. Greetings, Inc. doing business as (d.b.a.) Fantus Paper Products (P.S. Greetings), hereinafter referred to as Domestic Interested Parties, within the deadline specified in 19 CFR 351.218(d)(1)(i).³ Domestic Interested Parties claimed interested party status under section 771(9)(C) of the Act, as producers of the domestic like product.⁴ On November 3, 2017, Commerce received complete substantive responses from Domestic Interested Parties within the 30-day deadline specified in 19 CFR 351.218(d)(3)(i).⁵ We received no substantive response from any other domestic or respondent interested parties in this proceeding, nor was a hearing requested. As a result, pursuant to 19 CFR 351.218(e)(1)(ii)(C), Commerce conducted an expedited (120-day) sunset review of the Order.

¹ See Notice of Antidumping Duty Order: Certain Folding Gift Boxes from the People's Republic of China, 67 FR 864 (January 8, 2002) (Order).

² See Initiation of Five-Year (Sunset) Reviews, 83 FR 4641 (February 1, 2018).

³ See Domestic Interested Parties' letter, “Third Five-Year (Sunset) Review of Antidumping Duty Order on Folding Gift Boxes from the People's Republic of China/The Domestic Industry's Notice of Intent to Participate,” dated February 16, 2018.

⁴ Id. at 2. Harvard was a petitioner in the underlying investigation of this proceeding. See Notice of Preliminary Determination of Sales at Less Than Fair Value: Certain Folding Gift Boxes from the People's Republic of China, 66 FR 40973 (August 6, 2001); unchanged in Notice of Final Determination of Sales at Less Than Fair Value: Certain Folding Gift Boxes from the People's Republic of China, 66 FR 58115 (November 20, 2001) (Final Determination).

⁵ See Domestic Interested Parties' letter, “Third Five-Year (Sunset) Review of the Antidumping Duty Order on Folding Gift Boxes from the People's Republic of China/Substantive Response to the Notice of Initiation,” dated March 5, 2018 (Substantive Response).

Scope of the Order

The products covered by the Order are certain folding gift boxes. Folding gift boxes are a type of folding or knock-down carton manufactured from paper or paperboard. Folding gift boxes are produced from a variety of recycled and virgin paper or paperboard materials, including, but not limited to, clay-coated paper or paperboard and kraft (bleached or unbleached) paper or paperboard. The scope of the Order excludes gift boxes manufactured from paper or paperboard of a thickness of more than 0.8 millimeters, corrugated paperboard, or paper mache. The scope also excludes those gift boxes for which no side of the box, when assembled, is at least nine inches in length.

Folding gift boxes included in the scope are typically decorated with a holiday motif using various processes, including printing, embossing, debossing, and foil stamping, but may also be plain white or printed with a single color. The subject merchandise includes folding gift boxes, with or without handles, whether finished or unfinished, and whether in one-piece or multi-piece configuration. One-piece gift boxes are die-cut or otherwise formed so that the top, bottom, and sides form a single, contiguous unit. Two-piece gift boxes are those with a folded bottom and a folded top as separate pieces. Folding gift boxes are generally packaged in shrink-wrap, cellophane, or other packaging materials, in single or multi-box packs for sale to the retail customer. The scope excludes folding gift boxes that have a retailer's name, logo, trademark or similar company information printed prominently on the box's top exterior (such folding gift boxes are often known as “not-for-resale” gift boxes or “give-away” gift boxes and may be provided by department and specialty stores at no charge to their retail customers). The scope of the Order also excludes folding gift boxes where both the outside of the box is a single color and the box is not packaged in shrink-wrap, cellophane, other resin-based packaging films, or paperboard.

Imports of the subject merchandise are classified under Harmonized Tariff Schedules of the United States (HTSUS) subheadings 4819.20.0040 and 4819.50.4060. These subheadings also cover products that are outside the scope of the Order. Furthermore, although the HTSUS subheadings are provided for convenience and customs purposes, our written description of the scope of the Order is dispositive.

Analysis of Comments Received

All issues raised in this sunset review, including the likelihood of continuation or recurrence of dumping and the magnitude of the margins likely to prevail if the Order were revoked, are addressed in the Issues and Decision Memorandum,⁶ dated concurrently with, and hereby adopted by this notice. The Issues and Decision Memorandum is a public document and is on file electronically via Enforcement and Compliance's Antidumping and Countervailing Duty Centralized Electronic Service System (ACCESS). ACCESS is available to registered users at https://access.trade.gov and to all parties in the Central Records Unit, room B8024 of the main Department of Commerce building. In addition, a complete version of the Issues and Decision Memorandum can be accessed at http://enforcement.trade.gov/frn/. The signed Issues and Decision Memorandum and the electronic version of the Issues and Decision Memorandum are identical in content.

⁶ See Memorandum, “Issues and Decision Memorandum for the Final Results of the Expedited Third Sunset Review of the Antidumping Duty Order on Certain Folding Gift Boxes from the People's Republic of China” dated concurrently with this notice (Issues and Decision Memorandum).

Final Results of Review

Pursuant to sections 751(c)(1) and 752(c)(1) and (3) of the Act, we determine that revocation of the Order on folding gift boxes from China would be likely to lead to continuation or recurrence of dumping, and that the magnitude of the dumping margins likely to prevail would be weighted-average dumping margins above de minimis.

Manufacturers, Producers, and Exporters | Weighted-Average Margin (percent)
All Manufacturers, Producers, and Exporters ⁷ | Above de minimis.

Notification Regarding Administrative Protective Order

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

⁷ Max Fortune Industrial Ltd. was excluded from the order. See Order, 67 FR at 865.

We are issuing and publishing these results and notice in accordance with sections 751(c), 752(c), and 777(i)(1) of the Act and 19 CR 351.218.

Dated: June 1, 2018.
Gary Taverman,
Deputy Assistant Secretary for Antidumping and Countervailing Duty Operations, performing the non-exclusive functions and duties of the Assistant Secretary for Enforcement and Compliance.

[FR Doc. 2018-12271 Filed 6-6-18; 8:45 am]

BILLING CODE 3510-DS-P